DEPARTMENT OF COMMERCE

National Institute of Standards and Technology

Notice of Government Owned Inventions Available for Leasing

AGENCY: National Institute of Standards and Technology, Commerce.

ACTION: Notice of government owned inventions available for licensing.

SUMMARY: The inventions listed below are owned in whole or in part by the U.S. Government, as represented by the Department of Commerce. The Department of Commerce's interest in the inventions is available for licensing in accordance with 35 U.S.C. 207 and 37 CFR Part 404 to achieve expeditious commercialization of results of federally funded research and development.

FOR FURTHER INFORMATION CONTACT: Technical and licensing information on these inventions may be obtained by writing to: National Institute of Standards and Technology, Office of Technology Partnerships, Building 820, Room 213, Gaithersburg, MD 20899; Fax 301-869-2751. Any request for information should include the NIST Docket No. and Title for the relevant invention as indicated below.

SUPPLEMENTARY INFORMATION: NIST may enter into a Cooperative Research and Development Agreement (“CRADA”) with the licensee to perform further research on the inventions for purposes of commercialization. The inventions available for licensing are:

NIST Docket Number: 98-032US.

Title: Method of Manufacture of Convective Accelerometers

Abstract: This invention is jointly owned by the Department of Commerce and RF Microsystems. The Department's interest in the invention is available for licensing. A gamma radiation sensing device is described which can be used to create a detailed three dimensional intensity distribution of a high radiation zone and to map the radiation intensity as a registered color contour field of a three dimensional geometric model of the radiation zone. The device consists of two mated hemispheres fabricated from material with high-gamma blocking capability. The hemispheres contain an offset mating surface that precludes the mating surface functioning as a radiation channel to the center of the mated sphere. A small-bore linear collimation channel is machined into each hemisphere to create a single, narrow bore viewing path to a central radiation sensing means located at the core of the sphere. The sensing element (an ionization probe, scintillator, or similar radiation sensitive means) is positioned so that it is at the terminus of the radiation channel. A circuitous path means machined into the hemisphere mating surfaces carries the signal (through the use of a flexible cable means—either coaxial or fiber optic) from the sensor to a remote electronic diagnostic and data logging means located well outside the high radiation environment. The circuitous path serves to restrict direct radiation entry to the sensor from all sources except those in line-of-sight with the collimated radiation channel.

Dated: October 23, 2000.
Karen H. Brown,
Deputy Director.

[FR Doc. 00-28199 Filed 11-01-00; 8:45 am]

BILLING CODE 3510-13-M